OFFICE OF MANAGEMENT AND BUDGET

Reporting on Non-Valued Seized and Forfeited Property

AGENCY: Office of Management and Budget.

ACTION: Notice of document availability.

SUMMARY: This Notice indicates the availability of the fourth Financial Accounting and Auditing Technical Release, “Reporting on Non-Valued Seized and Forfeited Property.” The Federal Accounting Standards Advisory Board cleared the technical release on July 31, 1999. Technical Release No. 4 is available on Financenet at http://www.financenet.gov/financenet/fed/aapc/technicl.htm.

ADDRESSES: Copies of Technical Release No. 4 may be obtained free of charge from the Federal Accounting Standards Advisory Board, 441 G Street, NW, Mailstop 6K17V, Washington, DC 20548 (telephone 202-512-7350).

FOR FURTHER INFORMATION CONTACT: David Zavada (telephone: 202-395-3993), Office of Federal Financial Management, Office of Management and Budget, 725 17th Street, NW, Room 6025, Washington, DC 20503.

Joshua Gotbaum,
Executive Associate Director and Controller.

[FR Doc. 00-32009 Filed 12-14-00; 8:45 am]

BILLING CODE 3110-01-U